DEPARTMENT OF COMMERCE

International Trade Administration

C-489-502

Welded Carbon Steel Standard Pipe and Tube from Turkey: Intent to Rescind Countervailing Duty Administrative Review, in Part

AGENCY: Import Administration, International Trade Administration, Department of Commerce.

EFFECTIVE DATE: August 5, 2009.

FOR FURTHER INFORMATION CONTACT: Kristen Johnson, AD/CVD Operations, Office 3, Import Administration, International Trade Administration, U.S. Department of Commerce, Room 4014, 14th Street and Constitution Ave., NW, Washington, DC 20230, telephone: (202) 482-4793

SUPPLEMENTARY INFORMATION:

Background

On March 2, 2009, the Department of Commerce (the Department) published a notice of opportunity to request an administrative review of the countervailing duty (CVD) order on welded carbon steel pipe and tube from Turkey. See Antidumping or Countervailing Duty Order, Finding, or Suspended Investigation; Opportunity To Request Administrative Review, 74 FR 9077 (March 2, 2009). On March 31, 2009, we received from Wheatland Tube Company, a domestic producer of subject merchandise, a request that the Department conduct an administrative review of the Yucel Boru Group, Cayirova Boru Sanayi ve Ticaret A.S., Yucelboru Ihracat Ithalat ve Pazarlama A.S., and Yucel Boru ve Profil Endustrisi A.S. (collectively, Yucel).¹

¹ Wheatland Tube Company also requested a review of the Borusan Group, Borusan Mannesmann Boru Sanayi ve Ticaret A.S., Borusan Istikbal Ticaret T.A.S., Tosyali dis Ticaret A.S., and Toscelik Profil ve Sac Endustrisi A.S. See Letter from King & Spalding on behalf of Wheatland Tube Company to the Department regarding “Request for Administrative Review,” dated March 31, 2009. A copy of this public document is available on the public record in the Department's Central Records Unit (CRU), room 1117 of the main Commerce building.

On April 27, 2009, the Department published the notice of initiation of the administrative review of the CVD order for the period January 1, 2008, through December 31, 2008, which covered Yucel. See Initiation of Antidumping and Countervailing Duty Administrative Reviews and Request for Revocation in Part, 74 FR 19042, 19044 (April 27, 2009).

On June 15, 2009, Yucel notified the Department that it had no sales, shipments, or entries, directly or indirectly, of subject merchandise to the United States during the period of review (POR).²

² This document is available on the public record in the CRU.

Scope of the Order

The products covered by this order are certain welded carbon steel pipe and tube with an outside diameter of 0.375 inch or more, but not over 16 inches, of any wall thickness (pipe and tube) from Turkey. These products are currently provided for under the Harmonized Tariff Schedule of the United States (HTSUS) as item numbers 7306.30.10, 7306.30.50, and 7306.90.10. Although the HTSUS subheadings are provided for convenience and customs purposes, the written description of the merchandise is dispositive.

Intent to Rescind the 2008 Administrative Review, in Part

Yucel submitted a letter to the Department on June 15, 2009, certifying that it had no sales, shipments, or entries, directly or indirectly, of subject merchandise to the United States during the POR. The petitioner did not comment on Yucel's claim of no sales, shipments, or entries.

On June 16, 2009, we conducted an internal customs data query. We also issued a “no shipments inquiry” message to U.S. Customs and Border Protection (CBP), which posted the message on June 19, 2009.³ The customs data query indicated that Yucel had no sales, shipments, or entries of subject merchandise to the United States during the POR. We did not receive any information from CBP contrary to Yucel's claim of no sales, shipments, or entries of subject merchandise to the United States during the POR. See Memorandum to the File through Melissa Skinner, Director, AD/CVD Operations, Office 3, titled “Customs Data Query,” (July 7, 2009).

³ See Message number 9170203, available at http://addcvd.cbp.gov.

Based on our analysis of the shipment data, we preliminarily determine that Yucel did not ship subject merchandise to the United States during the POR. Therefore, in accordance with 19 CFR 351.213(d)(3), and consistent with our practice,⁴ we preliminarily determine to rescind the review for Yucel. We will continue this administrative review with respect to the Borusan Group, Borusan Mannesmann Boru Sanayi ve Ticaret A.S., Borusan Istikbal Ticaret T.A.S., Tosyali dis Ticaret A.S., and Toscelik Profil ve Sac Endustrisi A.S.

⁴ See, e.g., Certain Welded Carbon Steel Pipe and Tube from Turkey: Notice of Rescission, in Part, of Antidumping Duty Administrative Review, 74 FR 7394 (February 17, 2009).

Public Comment

The Department is setting aside a period for interested parties to raise issues regarding the preliminary determination to rescind the administrative review for Yucel. The Department encourages all interested parties to submit such comments within 20 calendar days of the publication of this notice. Comments should be addressed to Import Administration's APO/Dockets Unit, Room 1870, U.S. Department of Commerce, 14th Street and Constitution Avenue, NW, Washington, DC 20230. The period for public comment is intended to provide the Department with ample opportunity to consider all issues prior to the issuance of the notice to rescind the administrative review in part.

We are issuing this notice in accordance with sections 751(a)(1) and 777(i)(1) of the Tariff Act of 1930, as amended, and 19 CFR 351.213(d)(4) of the Department's regulations.

Dated: July 28, 2009.
John M. Andersen,
Acting Deputy Assistant Secretary for Antidumping and Countervailing Duty Operations.

[FR Doc. E9-18598 Filed 8-4-04; 8:45 am]

BILLING CODE 3510-DS-S